COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to add a product in unrestricted quantities to Annex 3.25 of the CAFTA-DR agreement.

SUMMARY: The Committee for the Implementation of Textile Agreements (“CITA”) has determined that certain polyester/nylon cut corduroy fabric, as specified below, is not available in commercial quantities in a timely manner in the CAFTA-DR countries. The product will be added to the list in Annex 3.25 of the CAFTA-DR Agreement in unrestricted quantities.

DATES: Effective August 27, 2013.

FOR FURTHER INFORMATION CONTACT: Maria Dybczak, Office of Textiles and Apparel, U.S. Department of Commerce, (202) 482-3651.

For Further Information Online: http://web.ita.doc.gov/tacgi/CaftaReqTrack.nsf under “Approved Requests,” Reference number: 184.2013.07.25.Fabric.Alston&BirdforSPCGlobal

SUPPLEMENTARY INFORMATION:

Authority: The CAFTA-DR Agreement; Section 203(o)(4) of the Dominican Republic-Central America-United States Free Trade Agreement Implementation Act (“CAFTA-DR Implementation Act”), Public Law 109-53; the Statement of Administrative Action, accompanying the CAFTA-DR Implementation Act; and Presidential Proclamations 7987 (February 28, 2006) and 7996 (March 31, 2006).

Background:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On July 25, the Chairman of CITA received a request for a Commercial Availability determination (“Request”) from Alston & Bird, LLP on behalf of SPC Global, LLC, for certain polyester/nylon cut corduroy fabric, as specified below. On July 29, 2013, in accordance with CITA's procedures, CITA notified interested parties of the Request, which was posted on the dedicated Web site for CAFTA-DR Commercial Availability proceedings. In its notification, CITA advised that any Response with an Offer to Supply (“Response”) must be submitted by August 8, 2013, and any Rebuttal Comments to a Response must be submitted by August 14, 2013, in accordance with sections 6 and 7 of CITA's procedures. No interested entity submitted a Response to the Request advising CITA of its objection to the Request and its ability to supply the subject product.

In accordance with section 203(o)(4)(C) of the CAFTA-DR Implementation Act, and section 8(c)(2) of CITA's procedures, as no interested entity submitted a Response to object to the Request with an offer to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings.

Specifications: Certain Polyester/Nylon Cut Corduroy Fabric.

HTS: 5801.32.0000.

Fiber Content: 80-95% polyester, 5-20% nylon.

Yarn Size:

Warp: Polyester filament between 111-222 decitex (English: 100-200 denier).

Fill: Polyester filament 111-278 decitex (English: 100-250 denier) and bi-constituent polyester-nylon filament between 222-389 decitex (English: 200-350 denier).

NOTE 1: In the bi-constituent yarn, the polyester and nylon are mixed prior to extrusion.

NOTE 2: The yarn size designations describe a range of specifications for yarn in its greige condition. They are intended as specifications to be followed by the mill in sourcing yarn used to produce the fabric. Weaving, dyeing, and finishing can alter the characteristics of the yarn as it appears in the finished fabric. This specification therefore includes yarns appearing in the finished fabric as finer or coarser than the designated yarn sizes provided that the variation occurs after processing of the greige yarn and production of the fabric.

Thread count: 20-34 warp ends x 50-67 fill picks per centimeter (English: 50-86 warp ends x 127-170 fill picks per inch).

Weight: 220-290 grams per sq. meter (English: 6.48-8.55 oz per sq. yard).

Width: 142-162 cm (English: 56-64 inches).

Weave: Cut corduroy with 3-6 wales per cm (English: 8-16 wales per inch).

Finishing: Piece dyed or of yarns of different colors.

Kim Glas,
Chairman, Committee for the Implementation of Textile Agreements.

[FR Doc. 2013-20765 Filed 8-26-13; 8:45 am]

BILLING CODE 3510-DS-P